DEPARTMENT OF THE TREASURY

Office of Thrift Supervision

[AC-39: OTS Nos. H-2944 and H-4701]

Oritani Financial Corp., MHC, Township of Washington, NJ; Approval of Conversion Application

Notice is hereby given that on May 10, 2010, the Office of Thrift Supervision approved the application of Oritani Financial Corp., MHC, and Oritani Bank, Township of Washington, New Jersey, to convert to the stock form of organization. Copies of the application are available for inspection by appointment (phone number: 202-906-5922 or e-mail Public.Info@OTS.Treas.gov) at the Public Reading Room, 1700 G Street, NW., Washington, DC 20552, and the OTS Northeast Regional Office, Harborside Financial Center Plaza Five, Suite 1600, Jersey City, New Jersey 07311.

Dated: May 17, 2010.
By the Office of Thrift Supervision.
Sandra E. Evans,
Federal Register Liaison.

[FR Doc. 2010-12117 Filed 5-20-10; 8:45 am]

BILLING CODE 6720-01-M